DEPARTMENT OF AGRICULTURE

Forest Service

Allegheny Resource Advisory Committee

AGENCY: Forest Service, USDA.

ACTION: Notice of meeting.

SUMMARY: The Allegheny Resource Advisory Committee will meet in Warren, Pennsylvania. The committee is authorized under the Secure Rural Schools and Community Self-Determination Act (Pub. L 112-141) (the Act) and operates in compliance with the Federal Advisory Committee Act. The purpose of the committee is to improve collaborative relationships and to provide advice and recommendations to the Forest Service concerning projects and funding consistent with the title II of the Act. The meeting is open to the public. The purpose of the meetings is to review and recommend projects authorized under title II of the Act.

DATES: The meetings will be held September 12 and 26, 2012, at 10:00 a.m.

ADDRESSES: The meetings will be held at the Allegheny National Forest Supervisor's Office located at 4 Farm Colony Drive in Warren, Pennsylvania.

Written comments may be submitted as described under Supplementary Information. All comments, including names and addresses when provided, are placed in the record and are available for public inspection and copying. The public may inspect comments received at 4 Farm Colony Drive, Warren, Pennsylvania. Please call ahead to Kathy Mohney at (814) 728-6298 to facilitate entry into the building to view comments.

FOR FURTHER INFORMATION CONTACT: Kathy Mohney, RAC Coordinator, Allegheny National Forest Supervisor's Office, 4 Farm Colony Drive in Warren, Pennsylvania 16365, phone (814) 728-6298 or email kmohney@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Allegheny Resource Advisory Committee members will solicit and consider project proposals for recommendation for funding. Anyone who would like to bring related matters to the attention of the committee may file written statements with the committee staff before the meeting. The agenda will include time for people to make oral statements of three minutes or less. Individuals wishing to make an oral statement should request in writing by September 7, 2012, to be scheduled on the September 12, 2012, agenda, and by September 21, 2012, to be scheduled on the September 26, 2012, agenda. Written comments and requests for time for oral comments must be sent to 4 Farm Colony Drive, Warren, Pennsylvania 16365, or by email to kmohney@fs.fed.us or via facsimile to 814-726-1462. A summary of the meeting will be posted at https://fsplaces.fs.fed.us/fsfiles/unit/wo/secure_rural_schools.nsf/RAC/F9B9F96FDB72CAE28825754A005A4689?OpenDocument within 21 days of the meeting.

Meeting Accommodations: If you require sign language interpreting, assistive listening devices or other reasonable accommodation please request this in advance of the meeting by contacting the person listed in the section titled FOR FURTHER INFORMATION CONTACT. All reasonable accommodation requests are managed on a case by case basis.

Dated: August 17, 2012.
Kathy Albaugh,
Acting Forest Supervisor.

[FR Doc. 2012-20848 Filed 8-23-12; 8:45 am]

BILLING CODE 3410-11-P